ENVIRONMENTAL PROTECTION AGENCY

[FRL-8169-1]

Connecticut Sanitation Device Standard; Notice of Determination

This Notice of Determination is for all Connecticut waters between Eastern Point in Groton, to Hoadley Point in Guilford, and the navigable reaches of the Hammonasset River, Menunketesuck River, Niantic River and the Thames River that drain into Long Island Sound, and the Connecticut River within state boundaries.

On September 16, 2005, notice was published that the State of Connecticut had petitioned the Regional Administrator, Environmental Protection Agency, to determine that adequate facilities for the safe and sanitary removal and treatment of sewage from all vessels are reasonably available for the Connecticut waters from Eastern Point, Groton, due south to the border between Connecticut and New York, then west following the state border to a point on that line due south of Hoadley Point, Guilford, then due north to Hoadley Point. The area also includes the navigable reaches of the Hammonasset River, Menunketesuck River, Niantic River and the Thames River that drain into Long Island Sound, and the Connecticut River within state boundaries.

The petition was filed pursuant to Section 312 (f)(3) of Public Law 92-500, as amended by Public Laws 95-217 and 100-4, for the purpose of declaring these waters a “No Discharge Area” (NDA).

Section 312 (f)(3) states: After the effective date of the initial standards and regulations promulgated under this section, if any State determines that the protection and enhancement of the quality of some or all of the waters within such States require greater environmental protection, such State may completely prohibit the discharge from all vessels of any sewage, whether treated or not, into such waters, except that no such prohibition shall apply until the Administrator determines that adequate facilities for the safe and sanitary removal and treatment of sewage from all vessels are reasonably available for such water to which such prohibition would apply.

The information submitted to me by the State of Connecticut certifies that there are 36 pumpout facilities, 29 shore-based facilities, four portable facilities, three pumpout boats and ten dump stations located within the proposed area. A list of the facilities, with phone numbers, locations, and hours of operation is appended at the end of this determination.

Based on the examination of the petition and its supporting documentation and information from site visits by EPA New England staff, I have determined that adequate facilities for the safe and sanitary removal and treatment of sewage from all vessels are reasonably available for the area covered under this determination. The area includes:

Waterbody/general area | Latitude | Longitude
Hoadley Point in Guilford | 41°15′22.88″ N | 72°44′09.73″ W.
Due South from Hoadley to the Boundary between CT and NY | 41°07′51.17″ N | 72°44′09.73″ W.
Easterly boundary between CT and NY to a point due South of Eastern Point in Groton | 41°15′54.55″ N | 72°04′31.09″ W.
Due North to Easter Point in Groton | 41°19′08.94″ N | 72°04″31.09″ W.
CT and MA state boundary of the CT River | 42°01′54.69″ N | 72°36′ 1.02″ W.
Navigable Rivers: Hammonasset, Menunketesuck, Niantic and the Thames

The area also includes the navigable reaches the Hammonasset River, Menunketesuck River, Niantic River and the Thames River that drain into Long Island Sound, and the Connecticut River within state boundaries.

This determination is made pursuant to Section 312(f)(3) of Public Law 92-500, as amended by Public Laws 95-217 and 100-4.

EPA has prepared a response to the eleven comments received during the 45-day comment period, which it may be requested from EPA by writing to: Ann Rodney, U.S. EPA New England, 1 Congress Street, Suite 1100, COP, Boston, MA 02114-2023.

List of Pumpouts in the Proposed Area
Name | Location | Contact information | Hours of operation (call ahead to verify) | Mean low water depth (feet) | Fee
The Guilford Yacht Club | West River, Guilford | VHF CH 71, 203-458-3048 | May 1-Nov 30, daily 8 a.m to 5 p.m | 8 | Free/$5 for non-members.
Cerino's Marina at Clinton Yacht Haven | Hammonasset River, Clinton | VHF CH 9, 72 , 860-669-7716 | May 1-Nov 1, daily 9 a.m. to 5 p.m | 9 | $5.
Riverside Basin Marina Inc | Hammonasset River, Clinton | VHF CH 9, 860-669-1503 | May 1-Oct 31, daily 7 a.m. to 5 p.m | 6 | Free.
Cedar Island Marina | Clinton Harbor, Clinton | VHF CH 9, 68, 860-669-8681 | May 1-Oct 31, daily 8 a.m. to 5 p.m | 8 | Free/$5 for non-members.
Brewer Pilot's Point Marina (North Yard) | Westbrook Harbor, Westbrook | VHF CH 9, 860-399-5128 | July 1-Aug 31, daily 8 a.m. to 8 p.m | 8 | Free/$5 for non-members.
Brewer Pilot's Point (East Yard) | Westbrook Harbor, Westbrook | VHF CH 9, 860-399-8421 | July 1-Aug 31, daily 8 a.m. to 8 p.m | 7 | Free/$5 for non-members.
Brewer Pilot's Point Marina (South Yard) | Westbrook Harbor, Westbrook | VHF CH 9, 806-399-7806 | July 1-Aug 31, daily 8 a.m. to 8 p.m | 12 | Free/$5 for non-members.
Brewer Pilot's Point Marina (Pumpout Boat) | Westbrook Harbor, Westbrook | VHF CH 9, 806-399-7806 | July 1-Aug 31, daily 8 a.m. to 8 p.m | 12 | $5.
Harry's Marine Repair | Patchogue River, Westbrook | 860-399-6165 | Apr 1-Oct 31, daily 8 a.m. to 4:30 p.m | 7 | $5.
Saybrook Point Marina | Connecticut River, Old Saybrook | VHF CH 9, 860-395-3080 | May 1-Oct 31, daily 8 a.m. to 5 p.m | 7 | $5.
Brewer Ferry Point Marina | Connecticut River, Old Saybrook | VHF CH 9, 860-388-3260 | May 1-Oct 31, M-W 8 a.m.-4:30 p.m., Th-F 8 a.m.-6 p.m., Sun 8 a.m.-5 p.m | 6 | Free.
Between the Bridges Marina | Connecticut River, Old Saybrook | VHF CH 7, 9, 860-388-1431 | May 1-Nov 15, daily 8 a.m.-5 p.m | 14 | $10.
Ragged Rock Marina | Connecticut River, Old Saybrook | 860-388-1049 | May 1-Nov 30, 9 a.m.-4 p.m | 10 | $5.
Lower Connecticut River Pumpout Boat | Lower Connecticut River | VHF CH 68 | TBD | N/A | Free.
State DEP Marine Division | Connecticut River, Old Lyme | VHF CH 9, 860-434-8638 | Memorial Day-Columbus Day, M-F 8 a.m. to 5 p.m., Sat, Sun and Monday Holidays 9 a.m.-7 p.m | 4 | Free.
Seaboard Marina | Connecticut River, Glastonbury | VHF CH 68, 860-657-3232 | Apr 1-Oct 31, daily 9 a.m.-5 p.m | 7 | $5.
Yankee Boat Yard & Marina | Connecticut River, Portland | VHF CH 68, 860-342-4735 | Apr 1-Nov 30, daily 8 a.m.-6 p.m | 10 | $5.
Midway Marina | Connecticut River, Haddam | VHF CH 9, 13 | May 1-Oct 31, M-F 8 a.m.-4:30 p.m, Sat 10 a.m.-3 p.m, Sun by appointment | 8 | Free/$5 for non-members.
Andrews Marina | Connecticut River, East Haddam | 860-345-2286 | May 1-Nov 30, daily 9 a.m.-6 p.m | 5 | Free.
Hays Haven Marina | Connecticut River, Chester | VHF CH 9, 860-526-9366 | May 1-Oct 31, daily 8 a.m.-5 p.m | 6 | Free.
Chrisholm Marina | Connecticut River, Chester | VHF CH 9, 860-526-5147 | Apr 1-Nov 30, daily 8 a.m.-5 p.m | 6 | Free.
Chester Marina | Connecticut River, Chester | VHF CH 16, 860-526-2227 | Please call | 6 | No data.
Brewer Deep River Marina | Connecticut River, Deep River | VHF CH 9, 806-526-5580 | May 1-Oct 31, daily 8 a.m.-4 p.m | 10 | $5.
Brewer Dauntless Shipyard | Connecticut River, Essex | VHF CH 9, 860-767-0001 | June 1-Sept 30, daily 7:30 a.m. to 5 p.m | 12 | Free/$5 for non-members.
The Chandlery at Essex | Connecticut River, Essex | VHF CH 68, 860-767-8257 | May 1-Oct 31, M-Th 8 a.m.-5 p.m, F-Sun 8 a.m.-6 p.m | 12 | Free/$5 for non-members.
Reynold's Garage and Marine | Hamburg Cove, Lyme | 860-434-0028 | May 1-Oct 31 M-Sat 9-5 | 4-5 | $5.
Niantic Bay Marina | Niantic River, Waterford | VHF CH 9, 860-444-1999 | May 1-Oct 31, M-Th 10 a.m.-4 p.m | 5 | $5.
Port Niantic Marina | Niantic River, East Lyme | VHF CH 9, 860-739-2155 | May 1-Oct 15, M-F 8 a.m.-4:30 p.m, Sat and Sun 8 a.m.-12 p.m | 7 | $5.
Bayreuther's Boat Yard, Inc | Smith Cove (Niantic), East Lyme | VHF CH 8, 9, 860-739-6264 | May 1-Oct 31, daily 9 a.m.-4 p.m | 6. | $0.50 per gallon.
Niantic River Pumpout Boat | Niantic River, East Lyme, Waterford | VHF CH 68 | May 30-Nov 1, Sat, Sun and Monday Holidays 9 a.m.-5 p.m | N/A | Free.
Niantic Dockominium | Niantic River, East Lyme | 860-739-8585 | May 15-Nov 15, 8-4 | 5 | $5.
Burr's Yacht Haven, Inc | Thames River, New London | VHF CH 9, 78, 860-443-8457 | May 1-Oct 31 M-Th 8:30-5:30, F-Sun 8:30-6:30 | 9 | $5.
Thamesport Marina | Thames River, New London | VHF CH 9, 68, 860-437-7022 | Mar 1-Nov 30, daily 8 a.m.-8 p.m | 13 | $5.
Crocker's Boatyard, Inc | Thames River, New London | VHF Ch 9, 10, 860-443-6304 | Mar 1-Nov 30, daily 7:30 a.m.-5 p.m | 12 | Free.
City of Groton Wastewater Treatment Facility | Thames River, New London | VHF CH 72, 860-446-4086 | May 1-Oct 31 M-F 7-3 Sat-Sun 7-10 | 20+ | $5.
Marina at American Wharf | Thames River (Norwich Harbor), Norwich | VHF CH 68, 860-886-6363 | Apr 1-Nov 30, daily 8 a.m.-8 p.m | 25 | $3 (portable), Free at gas dock.

Dated: May 4, 2006.
Robert W. Varney,
Regional Administrator, Region 1.

[FR Doc. E6-7275 Filed 5-11-06; 8:45 am]

BILLING CODE 6560-50-P